DEPARTMENT OF COMMERCE

Bureau of Industry and Security

15 CFR Parts 710, 711, 712, 716, 718, 719, and 720

[Docket No. 080625781-8790-01]

RIN 0694-AE39

Chemical Weapons Convention Regulations: Additions to the List of States Parties; Updates to Contact Information for the Treaty Compliance Division; Editorial Corrections

AGENCY: Bureau of Industry and Security, Commerce.

ACTION: Final rule.

SUMMARY: The Bureau of Industry and Security (BIS) is publishing this final rule to amend the Chemical Weapons Convention Regulations (CWCR) by updating the address for submitting declarations, reports, and advance notifications under the CWCR and for submitting chemical determination requests, and requests to obtain the forms needed to complete the declarations and reports. This final rule also updates the telephone and facsimile numbers for contacting, or providing information to, BIS's Treaty Compliance Division (TCD), which administers the requirements contained in the CWCR. In addition, this rule updates the e-mail addresses in the CWCR for submitting chemical determination requests or requests for BIS to provide written interpretations of CWCR requirements. These changes are being implemented by BIS to reflect the recent relocation of TCD.

This rule also updates the list of countries that currently are States Parties to the CWC by adding “Congo (Republic of the),” “Guinea-Bissau,” and “Lebanon,” which recently became States Parties.

Finally, this rule revises a number of references in the CWCR to the Export Administration Regulations (EAR) to indicate the correct legal citation for the EAR.

DATES: This rule is effective December 22, 2008. Although there is no formal comment period, public comments on this regulation are welcome on a continuing basis.

ADDRESSES: You may submit comments, identified by RIN 0694-AE39, by any of the following methods:

• Federal eRulemaking Portal: http://www.regulations.gov. Follow the instructions for submitting comments.

• E-mail: publiccomments@bis.doc.gov. Include “RIN 0694-AE39” in the subject line of the message.

• Fax: (202) 482-3355. Please alert the Regulatory Policy Division, by calling (202) 482-2440, if you are faxing comments.

• Mail or Hand Delivery/Courier: Willard Fisher, U.S. Department of Commerce, Bureau of Industry and Security, Regulatory Policy Division, 14th St. & Pennsylvania Avenue, NW., Room 2705, Washington, DC 20230, ATTN: RIN 0694-AE39.

Send comments regarding this collection of information, including suggestions for reducing the burden, to Jasmeet Seehra, Office of Management and Budget (OMB), by e-mail to Jasmeet_K._Seehra@omb.eop.gov, or by fax to (202) 395-7285; and to the Regulatory Policy Division, Bureau of Industry and Security, Department of Commerce, 14th Street & Pennsylvania Avenue, NW., Room 2705, Washington, DC 20230. Comments on this collection of information should be submitted separately from comments on the final rule (i.e., RIN 0694-AE39)—all comments on the latter should be submitted by one of the three methods outlined above.

FOR FURTHER INFORMATION CONTACT: For questions of a general or regulatory nature, contact the Regulatory Policy Division, telephone: (202) 482-2440. For program information on declarations, reports, advance notifications, chemical determinations, recordkeeping, inspections and facility agreements, contact the Treaty Compliance Division, Office of Nonproliferation and Treaty Compliance, telephone: (202) 482-1001; for legal questions, contact Rochelle Woodard, Office of the Chief Counsel for Industry and Security, telephone: (202) 482-5301.

SUPPLEMENTARY INFORMATION:

Background

This final rule amends the Chemical Weapons Convention Regulations (CWCR) (15 CFR Parts 710-721) by updating the address for submitting declarations, reports, and advance notifications that are required under the CWCR and for submitting chemical determination requests, as well as requests for obtaining the forms needed to complete declarations and reports. This final rule also updates the telephone and facsimile numbers indicated in the CWCR for contacting, or providing information to, the Treaty Compliance Division (TCD), Office of Nonproliferation and Treaty Compliance, which is the organization within the Bureau of Industry and Security (BIS) that administers the requirements contained in the CWCR. In addition, this rule updates the e-mail addresses in the CWCR that may be used to submit chemical determination requests or requests for BIS to provide written interpretations of CWCR requirements by changing the domain for these addresses from “cwc.gov” to “bis.doc.gov.” These changes are being implemented by BIS to reflect the recent relocation of TCD to new office space.

This rule also amends Supplement No. 1 to Part 710 of the CWCR (titled “States Parties to the Convention on the Prohibition of the Development, Production, Stockpiling, and Use of Chemical Weapons and on Their Destruction”) by adding “Congo (Republic of the),” “Guinea-Bissau,” and “Lebanon,” which became States Parties to the CWC on January 2, 2008, June 18, 2008, and December 20, 2008, respectively. As a result of this change, the CWCR declaration and reporting requirements for these two countries will be the same as those that apply to other States Parties.

Finally, this rule revises a number of references in the CWCR to the Export Administration Regulations (EAR) (15 CFR Parts 730-774) to indicate the correct legal citation for the EAR. Previously, the citation for the EAR read “(15 CFR Parts 730 through 799).” The EAR, as well as the International Traffic in Arms Regulations (ITAR), are referenced in the CWCR because both contain certain CWC-related requirements in addition to those described in the CWCR.

Rulemaking Requirements

1. This final rule has been determined to be not significant for purposes of Executive Order 12866.

2. Notwithstanding any other provision of law, no person is required to respond to, nor shall any person be subject to a penalty for failure to comply with, a collection of information subject to the Paperwork Reduction Act of 1995 (44 U.S.C. 3501 et. seq.) (PRA), unless that collection of information displays a currently valid Office of Management and Budget (OMB) Control Number. This rule involves a collection of information subject to the requirements of the PRA. This collection has been approved by OMB under Control Number 0694-0091 (Chemical Weapons Convention—Declaration and Report Forms), which carries burden hour estimates of 10.6 hours for Schedule 1 Chemicals (including declarations, reports, and amendments), 11.9 hours for Schedule 2 chemicals (including declarations, reports, and amendments), 2.5 hours for Schedule 3 chemicals (including declarations, reports, and amendments), 5.3/5.1/5.1 hours for unscheduled discrete organic chemicals (depending upon whether an Annual Declaration on Past Activities or an amendment thereto, a No Changes Authorization Form, or a Change in Inspection Status Form, respectively, is required), 1.7 hours for compliance review requests, and 0.17 hours for Schedule 1 notifications. BIS anticipates that this rule will not change these burden hour estimates, nor will it change the total estimated burden hours for the approved collection (i.e., 4,501.6 burden hours).

Comments are invited on: (i) Whether the collection of information is necessary for the functions of the agency, including whether the information shall have practical utility; (ii) the accuracy of the agency's estimate of the information collection burden; (iii) ways to enhance the quality, utility, and clarity of the information to be collected; and (iv) ways to minimize the burden of the collection on respondents, including through the use of automated collection techniques or other forms of information technology.

Send comments regarding this burden estimate or any other aspect of this collection of information, including suggestions for reducing the burden to Jasmeet Seehra, Office of Management and Budget (OMB), and to the Regulatory Policy Division, Bureau of Industry and Security, Department of Commerce, as indicated in the ADDRESSES section of this rule.

3. This rule does not contain policies with Federalism implications as that term is defined in Executive Order 13132.

4. The provisions of the Administrative Procedure Act (5 U.S.C. 553) requiring notice of proposed rulemaking, the opportunity for public participation, and a delay in effective date are inapplicable for the amendments contained in this rule that involve updates to contact information for the Treaty Compliance Division. The provisions of the Administrative Procedure Act requiring notice of proposed rulemaking, the opportunity for public participation, and a delay in effective date are inapplicable for those changes because those revisions relate to rules of agency organization, procedure, or practice.

BIS finds that there is good cause under 5 U.S.C. 553(b)(B) to waive the provisions of the Administrative Procedure Act requiring prior notice and the opportunity for public comment for the corrections to references to the Export Administration Regulations (EAR) (15 CFR Parts 730-774), because prior notice and the opportunity for public comment are unnecessary. These revisions are administrative in nature and do not affect the rights and obligations of the public. Since these revisions do not constitute substantive changes to the CWCR, it is unnecessary to provide notice and opportunity for public comment. For the reason stated above, BIS finds good cause to waive the 30-day delay in effectiveness required by 5 U.S.C. 553(d) for the revisions to the references to the EAR.

The provisions of the Administrative Procedure Act (5 U.S.C. 553) requiring notice of proposed rulemaking, the opportunity for public participation, and a delay in effective date, do not apply to the amendments contained in this rule that involve the addition of three countries (i.e., Republic of the Congo, Guinea-Bissau, and Lebanon) to the list of CWC States Parties in Supplement No. 1 to part 710 of the CWCR, because these revisions involve a military and foreign affairs function of the United States (Sec. 5 U.S.C. 553(a)(1)).

Further, no other law requires that a notice of proposed rulemaking and an opportunity for public comment be given for this rule. Because a notice of proposed rulemaking and an opportunity for public comment are not required to be given for this rule under the Administrative Procedure Act or by any other law, the analytical requirements of the Regulatory Flexibility Act (5 U.S.C. 601 et. seq.) are not applicable.

Therefore, this regulation is issued in final form. Although there is no formal comment period, public comments on this regulation are welcome on a continuing basis. You may submit comments, identified by RIN 0694-AE39, to Willard Fisher, Regulatory Policy Division, Bureau of Industry and Security, Department of Commerce, as indicated in the ADDRESSES section of this rule.

List of Subjects

15 CFR Part 710

Chemicals, Exports, Foreign Trade, Imports, Treaties.

15 CFR Part 711

Chemicals, Confidential business information, Reporting and recordkeeping requirements.

15 CFR Part 712

Chemicals, Exports, Foreign Trade, Imports, Reporting and recordkeeping requirements.

15 CFR Part 716

Chemicals, Confidential business information, Reporting and recordkeeping requirements, Search warrant, Treaties.

15 CFR Part 718

Confidential business information, Reporting and recordkeeping requirements.

15 CFR Part 719

Administrative proceedings, Exports, Imports, Penalties, Violations.

15 CFR Part 720

Penalties, violations.

Accordingly, Parts 710, 711, 712, 716, 718, 719, and 720 of the Chemical Weapons Convention Regulations (15 CFR Parts 710-721) are amended as follows:

PART 710—[AMENDED]

1. The authority citation for 15 CFR Part 710 continues to read as follows:

Authority: 22 U.S.C. 6701 et seq.; E.O. 13128, 64 FR 36703, 3 CFR 1999 Comp., p. 199.

§ 710.1 [Amended]

2. Section 710.1 is amended:

a. By removing the parenthetical phrase “(15 CFR parts 730 through 799)” from the fourth sentence of definition of “Advance Notification” and adding, in its place, the parenthetical phrase “(15 CFR parts 730 through 774)”; and

b. By removing the parenthetical phrase “(15 CFR parts 730-799)” from the definition of “EAR” and adding, in its place, the parenthetical phrase “(15 CFR parts 730 through 774)”.

§ 710.6 [Amended]

3. Section 710.6 is amended by removing the parenthetical phrase “(15 CFR parts 730 through 799)” from the second sentence and adding, in its place, the parenthetical phrase “(15 CFR parts 730 through 774)”.

Supplement No. 1 to Part 710—[Amended]

4. Supplement No. 1 to Part 710 is amended:

a. By revising the undesignated center heading “List of States Parties as of November 1, 2006” to read “List of States Parties as of December 20, 2008”;

b. By adding in alphabetical order the countries “Congo (Republic of the)”, “Guinea-Bissau”, and “Lebanon”; and

c. By removing the parenthetical phrase “(15 CFR parts 730-799)” from the first footnote that follows the List of States Parties and adding, in its place, the parenthetical phrase “(15 CFR parts 730 through 774)”.

PART 711—[AMENDED]

5. The authority citation for 15 CFR Part 711 continues to read as follows:

Authority: 22 U.S.C. 6701 et seq.; E.O. 13128, 64 FR 36703, 3 CFR 1999 Comp., p. 199.

6. Section 711.4 is amended by revising the second sentence in paragraph (a)(1) and by revising paragraph (b) to read as follows:

§ 711.4 Assistance in determining your obligations.

(a) * * *

(1) * * * Such requests must be sent via facsimile to (202) 482-1731, e-mailed to cdr@bis.doc.gov, or mailed to the Treaty Compliance Division, Bureau of Industry and Security, U.S. Department of Commerce, Room 4515, 14th Street and Pennsylvania Avenue, NW., Washington, DC 20230, and must be marked “Attn: Chemical Determination.” * * *

* * * * *

(b) Other inquiries. If you need assistance in interpreting the provisions of the CWCR or need assistance with declaration, forms, reporting, advance notification, inspection or facility agreement issues, contact BIS's Treaty Compliance Division by phone at (202) 482-1001. If you require a response from BIS in writing, submit a detailed request to BIS that explains your question, issue, or request. Send the request to the address or facsimile included in paragraph (a) of this section, or e-mail the request to cwcqa@bis.doc.gov. Your request must be marked, “ATTN: CWCR Assistance.”

§ 711.6 [Amended]

7. Section 711.6 is amended by removing the phrase “1555 Wilson Blvd., Suite 700, Arlington, VA 22209-2405, Telephone: (703) 605-4400” from the first sentence of paragraph (a) and adding, in its place, the phrase “Room 4515, 14th Street and Pennsylvania Avenue, NW., Washington, DC 20230, Telephone: (202) 482-1001”.

8. Section 711.7 is revised to read as follows:

§ 711.7 Where to submit declarations, reports and advance notifications.

Declarations, reports and advance notifications required by the CWCR must be sent either by fax to (202) 482-1731 or by mail or courier delivery to the following address: Treaty Compliance Division, Bureau of Industry and Security, U.S. Department of Commerce, Room 4515, 14th Street and Pennsylvania Avenue, NW., Washington, DC 20230, Telephone: (202) 482-1001. Specific types of declarations and reports and due dates are outlined in Supplement No. 2 to parts 712 through 715 of the CWCR.

§ 711.8 [Amended]

9. Section 711.8 is amended by removing the telephone number “(703) 235-1335” from the first sentence of paragraph (b)(2)(iv)(A) and adding, in its place, the telephone number “(202) 482-1001”.

PART 712—[AMENDED]

10. The authority citation for 15 CFR Part 712 continues to read as follows:

Authority: 22 U.S.C. 6701 et seq.; 50 U.S.C. 1601 et seq.; 50 U.S.C. 1701 et seq.; E.O. 12938, 59 FR 59099, 3 CFR, 1994 Comp., p. 950, as amended by E.O. 13094, 63 FR 40803, 3 CFR, 1998 Comp., p. 200; E.O. 13128, 64 FR 36703, 3 CFR 1999 Comp., p. 199.

§ 712.2 [Amended]

11. Section 712.2(b) is amended by removing the parenthetical phrase “(15 CFR parts 730 through 799)” from the first sentence of Note 2 to § 712.2(b) and adding, in its place, the parenthetical phrase “(15 CFR parts 730 through 774)”.

12. Section 712.6 is amended by revising paragraph (a)(2) to read as follows:

§ 712.6 Advance notification and annual report of all exports and imports of Schedule 1 chemicals to, or from, other States Parties.

(a) * * *

(2) Send the advance notification either by fax to (202) 482-1731 or by mail or courier delivery to the following address: Treaty Compliance Division, Bureau of Industry and Security, U.S. Department of Commerce, Room 4515, 14th Street and Pennsylvania Avenue, NW., Washington, DC 20230, and mark it “Attn: Advance Notification of Schedule 1 Chemical [Export] [Import].”

* * * * *

PART 716—[AMENDED]

13. The authority citation for 15 CFR Part 716 continues to read as follows:

Authority: 22 U.S.C. 6701 et seq.; E.O. 13128, 64 FR 36703, 3 CFR 1999 Comp., p. 199.

§ 716.6 [Amended]

14. Section 716.6 is amended by removing the phrase “1555 Wilson Blvd., Suite 700, Arlington, VA 22209, Telephone: (703) 605-4400” from paragraph (d) and adding, in its place, the phrase “Room 4515, 14th Street and Pennsylvania Avenue, NW., Washington, DC 20230, Telephone: (202) 482-1001”.

PART 718—[AMENDED]

15. The authority citation for 15 CFR Part 718 continues to read as follows:

Authority: 22 U.S.C. 6701 et seq.; E.O. 13128, 64 FR 36703, 3 CFR 1999 Comp., p. 199.

§ 718.3 [Amended]

16. Section 718.3 is amended by removing the parenthetical phrase “(15 CFR parts 730 through 799)” from paragraphs (a) and (b)(1) and adding, in its place, the parenthetical phrase “(15 CFR parts 730 through 774)”.

PART 719—[AMENDED]

17. The authority citation for 15 CFR Part 719 continues to read as follows:

Authority: 22 U.S.C. 6701 et seq.; 50 U.S.C. 1601 et seq.; 50 U.S.C. 1701 et seq.; E.O. 12938, 59 FR 59099, 3 CFR 1994, Comp., p. 950; E.O. 13128, 64 FR 36703, 3 CFR 1999 Comp., p. 199.

§ 719.1 [Amended]

18. Section 719.1(a) is amended by removing the parenthetical phrase “(15 CFR parts 730 through 799)” from the Note to § 719.1(a) and adding, in its place, the parenthetical phrase “(15 CFR parts 730 through 774)”.

PART 720—[AMENDED]

19. The authority citation for 15 CFR Part 720 continues to read as follows:

Authority: 22 U.S.C. 6701 et seq.; E.O. 13128, 64 FR 36703, 3 CFR 1999 Comp., p. 199.

§§ 720.2, 720.3, and 720.4 [Amended]

20. Part 720 is amended by removing the parenthetical phrase “(15 CFR parts 730 through 799)” and adding, in its place, the parenthetical phrase “(15 CFR parts 730 through 774)” in the following places:

a. Section 720.2(a), second sentence;

b. Section 720.3(b), fourth sentence; and

c. Section 720.4, first sentence.

Dated: December 16, 2008.
Christopher R. Wall,
Assistant Secretary for Export Administration.

[FR Doc. E8-30384 Filed 12-19-08; 8:45 am]

BILLING CODE 3510-33-P